DEPARTMENT OF AGRICULTURE

Agricultural Marketing Service

7 CFR Part 1209

[Docket No. FV-05-710]

Mushroom Promotion, Research, and Consumer Information Order; Section 610 Review

AGENCY: Agricultural Marketing Service.

ACTION: Notice of regulatory review and request for comments.

SUMMARY: This document announces the Agricultural Marketing Service's (AMS) review of the Mushroom Promotion, Research, and Consumer Information Order (conducted under the Mushroom Promotion, Research, and Consumer Information Act), under the criteria contained in Section 610 of the Regulatory Flexibility Act (RFA).

DATES: Written comments on this document must be received by February 13, 2006.

ADDRESSES: Interested persons are invited to submit written comments concerning this notice of review to the Docket Clerk, Research and Promotion Branch, Fruit and Vegetable Programs (FV), Agricultural Marketing Service (AMS), USDA, Stop 0244, Room 2535-S, 1400 Independence Avenue, SW., Washington, DC 20250-0244. Comments should be submitted in triplicate and will be made available for public inspection at the above address during regular business hours. Comments may also be submitted electronically to: Deborah.simmons@usda.gov or Internet: http://www.regulations.gov. All comments should reference the docket number and the date and page number of this issue of the Federal Register. A copy of this notice may be found at: http://www.ams.usda.gov/fv/rpdocketlist.htm.

FOR FURTHER INFORMATION CONTACT: Debbie Simmons, Research and Promotion Branch, FV, AMS, USDA, Stop 0244, 1400 Independence Avenue, SW., Room 2535-S, Washington, DC 20250-0244; telephone: (888) 720-9915 fax: (202) 205-2800; or e-mail: Deborah.simmons@usda.gov.

SUPPLEMENTARY INFORMATION: The Mushroom Promotion, Research, and Consumer Information Act of 1990, (7 U.S.C. 6101 et seq.) authorized the Mushroom Promotion, Research, and Consumer Information Program which is industry operated and funded, with oversight by USDA. The program's objective is to carry out an effective, continuous, and coordinated program of promotion, research, consumer information, and industry information designed to strengthen the mushroom industry's position in the marketplace, maintain and expand existing markets and uses for mushrooms, develop new markets and uses for mushrooms, and to carry out programs, plans, and projects designed to provide maximum benefits to the mushroom industry.

The program became effective on January 8, 1993, when the Mushroom Promotion, Research, and Consumer Information Order (7 CFR part 1209) was issued. Assessments began in 1993 at the rate of 0.0025 cents per pound and have fluctuated from 0.0010 to 0.0045 cents per pound. The current rate is 0.0024 cents per pound.

Assessments under this program are used to fund retail category management, research concerning nutritional attributes of mushrooms, foodservice training, and industry information and to enable it to exercise its duties in accordance with the Order.

The program is administered by the Mushroom Council (Council) which is composed of producers and may include importers, appointed by the Secretary of Agriculture from nominations submitted by eligible producers or importers. Producer membership on the Board is based upon mushroom production within each of four predestinated geographic regions within the U.S. and a fifth region representing importers, when imports, on average, equal or exceed 35,000,000 pounds of mushrooms annually. All members serve terms of three years.

AMS published in the Federal Register (63 FR 8014; February 18, 1999) its plan to review certain regulations, including the Mushroom Promotion, Research, and Consumer Information Order, (conducted under the Mushroom Promotion, Research, and Consumer Information Act), under criteria contained in Section 610 of the Regulatory Flexibility Act (RFA; 5 U.S.C. 601-612). The plan was updated in the Federal Register on August 14, 2003 (68 FR 48574). Because many AMS regulations impact small entities, AMS decided, as a matter of policy, to review certain regulations which, although they may not meet the threshold requirement under section 610 of the RFA, warrant review. Accordingly, this notice and request for comments is made for the Mushroom Promotion, Research, and Consumer Information Order.

The purpose of the review is to determine whether the Mushroom Promotion, Research, and Consumer Information Order should be continued without change, amended, or rescinded (consistent with the objectives of the Mushroom Promotion, Research, and Consumer Information Act of 1990) to minimize the impacts on small entities. AMS will consider the continued need for the Order; the nature of complaints or comments received from the public concerning the Order; the complexity of the Order; the extent to which the Order overlaps, duplicates, or conflicts with other Federal rules, and, to the extent feasible, with State and local regulations; and the length of time since the Order has been evaluated or the degree to which technology, economic conditions, or other factors have changed in the area affected by the Order.

Written comments, views, opinions, and other information regarding the Order's impact on small businesses are invited.

Dated: December 8, 2005.
Lloyd C. Day,
Administrator, Agricultural Marketing Service.

[FR Doc. E5-7336 Filed 12-13-05; 8:45 am]

BILLING CODE 3410-02-P